DEPARTMENT OF TRANSPORTATION

National Highway Traffic Safety Administration

[Docket No. NHTSA-2003-15428]

Extension of Comment Period on Whether Nonconforming 2003-2004 Micro Car Company Smart Passion (Glass Top and Convertible) Passenger Cars Are Eligible for Importation

AGENCY: National Highway Traffic Safety Administration (NHTSA), DOT.

ACTION: Extension of comment period.

SUMMARY: On June 20, 2003, NHTSA published notice (at 68 FR 37040) that it had received a petition to decide that nonconforming 2003-2004 Micro Car Company Smart Passion (glass top and convertible) passenger cars are eligible for importation into the United States. The notice solicited public comments on the petition and stated that the closing date for comments is July 21, 2003.

This is to notify the public that NHTSA is extending the comment period until July 31, 2003. This extension is based on a request from Mercedes-Benz USA L.L.C. (Mercedes-Benz). In requesting the extension, Mercedes-Benz stated that “upon reviewing the record to determine if sufficient engineering data had been submitted to enable NHTSA to make a determination whether the proposed vehicle is eligible for importation, [it] found no such data.” As a consequence, the company stated that it needs “additional time to prepare the analytical data [it believes] is necessary for the agency to make an informed and rational decision regarding the petition.” Mercedes-Benz requested that the deadline be extended from July 21, 2003 until July 31, 2003.

DATES: Comments on the import eligibility petition must be submitted on or before July 31, 2003.

ADDRESSES: Comments are to be submitted to: Docket Management, Room PL-401, 400 Seventh Street, SW., Washington, DC 20590. [Docket hours are from 9 am to 5 pm]. Anyone is able to search the electronic form of all comments received into any of our dockets by the name of the individual submitting the document (or signing the comment, if submitted on behalf of an association, business, labor union, etc.). You may review DOT's complete Privacy Act Statement in the Federal Register published on April 11, 2000 (Volume 65, Number 70; Pages 19477-787) or you may visit http://dms.dot.gov.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(B) and (b)(1); 49 CFR 593.8; delegations of authority at 49 CFR 1.50 and 501.8.

Issued on: July 23, 2003.
Kenneth N. Weinstein,
Associate Administrator for Enforcement.

[FR Doc. 03-19154 Filed 7-25-03; 8:45 am]

BILLING CODE 4910-59-P